DEPARTMENT OF COMMERCE

Foreign-Trade Zones Board

[Docket 55-2008]

Foreign-Trade Zone 26—Atlanta, GA, Area; Application for Reorganization/Expansion

An application has been submitted to the Foreign-Trade Zones Board (the Board) by the Georgia Foreign-Trade Zone, Inc., grantee of FTZ 26, requesting authority to reorganize and expand the zone in the Atlanta, Georgia, area. The application was submitted pursuant to the provisions of the Foreign-Trade Zones Act, as amended (19 U.S.C. 81a-81u), and the regulations of the Board (15 CFR part 400). It was formally filed on October 6, 2008.

FTZ 26 was approved on January 17, 1977 (Board Order 115, 42 FR 4186, 1/24/77); reorganized on April 18, 1988 (Board Order 381, 53 FR 15254, 4/28/88); and, expanded on April 29, 1996 (Board Order 820, 61 FR 21156, 5/9/96), on March 19, 1999 (Board Order 1033, 64 FR 16421, 4/5/99), on June 21, 2000 (Board Order 1105, 65 FR 39865, 6/28/00), and on July 8, 2005 (Board Order 1401, 70 FR 41201, 7/18/05).

The general-purpose zone project currently consists of twelve sites (5,391 acres total) in the Atlanta area: Site 1 (285 acres, 2 parcels)—adjacent to the Hartsfield-Jackson Atlanta International Airport and jet fuel storage and distribution facilities in Clayton and Fulton Counties; Site 2 (2,472 acres)—Peachtree City Industrial Park, Highway 74 South, Peachtree City; Site 3 (85 acres)—Canton-Cherokee County Business and Industrial Park, Brown Industrial Boulevard, Canton; Site 4 (1,152 acres)—within the 2,124-acre Muscogee Technology Park, located at the intersection of Georgia Highway 22 and State Route 80, Columbus; Site 5 (49 acres)—Corporate Ridge/Columbus East Industrial Park, located at the intersection of Schatulga Road and Cargo Drive, Columbus; Site 6 (394 acres)—within the 411-acre Green Valley Industrial Park, located at the intersection of Green Valley Road and State Route 16, Griffin; Site 7 (64 acres)—Hudson Industrial Park, located at the intersections of Hudson Industrial Drive, Green Valley Road and Futral Road, Griffin; Site 8 (190 acres)—I-75 Industrial Park, located at the intersection of Wallace Road and Jackson Road, Griffin; Site 9 (321 acres)—Hamilton Mill Business Center, located at the intersection of Hamilton Mill Road and Interstate 985, Buford; Site 10 (212 acres)—ProLogis Park Greenwood, located just west of Interstate 75 at the Georgia State Highway 155 diamond interchange, McDonough; Temporary Site 1 (7 acres)—Southpoint Business Park (Building B), 2500 Southpoint Drive, Forest City (expires 7/31/09); and, Temporary Site 2 (160 acres)—within the West Point Economic Development, located at the intersection of Interstate 85 and Webb Road, West Point (expires 7/31/09).

The applicant is now requesting authority for a reorganization and expansion of the zone, which includes both additions and deletions with an overall increase of 1,716 acres in total zone space as described below:

—Modify Existing Site 2 (Peachtree City Industrial park) by deleting 1,036 acres (new total acreage 1,436 acres);

—Delete Site 8 (I-75 Industrial Park) in its entirety due to changed circumstances;

—Proposed Site 11 (1,544 acres)—West Point Economic Development, located at the intersection of Interstate 85 and Webb Road, West Point (Troup County) (this site will include Temporary Site 2 on a permanent basis);

—Proposed Site 12 (241 acres)—within the 1,800-acre Callaway South Industrial Park, located at Pegasus Parkway and South Loop Extension off of Interstate 85, West Point;

—Proposed Site 13 (184 acres)—within the 541-acre Sofkee Industrial Park, 5898 Hawkinsville Road, Macon (Bibb County);

—Proposed Site 14 (230 acres)—Airport East Industrial Park, 8222 Hawkinsville Road, Macon;

—Proposed Site 15 (207 acres)—within the 715-acre Twiggs County Industrial Park, located at Interstate 16 and State Route 96, Jeffersonville (Twiggs County);

—Proposed Site 16 (308 acres)—Meridian 75 Logistics Center, located at Interstate 75 and Rumble Road, Forsyth (Monroe County);

—Proposed Site 17 (193 acres)—Majestic Airport Center III, located at Interstate 85 and Jonesboro Road (Highway 138), Union City (Fulton County); and,

—Proposed Site 18 (195 acres)—South Fulton Parkway Corporate Center, located at South Fulton Parkway and Derrick Road, Union City.

The sites will provide warehousing and distribution services to area businesses. No specific manufacturing authority is being requested at this time. Such requests would be made to the Board on a case-by-case basis.

In accordance with the Board's regulations, Camille Evans of the FTZ staff is designated examiner to investigate the application and report to the Board.

Public comment is invited from interested parties. Submissions (original and 3 copies) shall be addressed to the Board's Executive Secretary at the address below. The closing period for their receipt is December 15, 2008. Rebuttal comments in response to material submitted during the foregoing period may be submitted during the subsequent 15-day period to December 29, 2008.

A copy of the application and accompanying exhibits will be available for public inspection at each of the following locations: U.S. Department of Commerce, Export Assistance Center, 75 Fifth Street, NW., Suite 1055, Atlanta, GA 30308; and, Office of the Executive Secretary, Foreign-Trade Zones Board, U.S. Department of Commerce, Room 2111, 1401 Constitution Avenue, NW., Washington, DC 20230.

For further information, contact Camille Evans at Camille_Evans@ita.doc.gov or (202) 482-2350.

Dated: October 8, 2008.
Andrew McGilvray,
Executive Secretary.

[FR Doc. E8-24326 Filed 10-10-08; 8:45 am]

BILLING CODE 3510-DS-P